DEPARTMENT OF HEALTH AND HUMAN SERVICES

Centers for Disease Control and Prevention

[Program Announcement 04065-Supplement]

Increasing Teen Driving Safety

A. Purpose

The Centers for Disease Control and Prevention (CDC) announces the intent to fund fiscal year (FY) 2005 supplemental funds for a cooperative agreement program to provide support and assistance to the Society for Advancement of Violence and Injury Research (SAVIR), for the development and implementation of an intervention to encourage teen driver compliance with (and parental endorsement of) Graduated Driver Licensing restrictions on drivers who have an intermediate license—the group for which crash risk is highest among all drivers.

B. Eligible Applicant

Assistance will be provided to SAVIR. SAVIR is being targeted because they are uniquely qualified to carry out this activity. This assistance will be delivered as a supplement to Program Announcement 04065. SAVIR was the only recipient of this award and the current supplement is consistent with the scope of the original announcement. Dr. Robert Foss, the Principal Investigator, is a leading expert in the field of Graduated Drivers Licensing (GDL) interventions and has recently conducted a similar study using the same methodology. Currently, no other individual is in a position to conduct and evaluate an enhanced enforcement intervention, which requires the development of specific materials on local GDL laws to inform police officers, teens, and families about the requirements and penalties for GDL infractions. Dr. Foss has already developed these tools and training methods. The time it would take for another investigator to accrue the knowledge required for this task and set up an intervention and evaluation plan would set the date of completion back considerably and possibly derail the project. This work is critical to supporting the research agenda and CDC's mission to reduce fatalities and injuries to teens from motor vehicle crashes. This activity is also instrumental in carrying forward the research-related goals of the Adolescent Trailblazer team.

C. Funding

Approximately $231,000 is available in FY 2005 to fund this award. It is expected that the award will begin on October 1, 2005 and will be made for a 12-month budget period with a project period of up to two years. Funding estimates may change.

D. Where To Obtain Additional Information

For general comments or questions about this announcement contact: Technical Information Management Section, CDC Procurement and Grants Office, 2920 Brandywine Road, Atlanta, GA 30341-4146, Telephone—770-488-2700.

For technical questions about this program, contact: Arlene Greenspan, Project Officer, CDC, National Center for Injury Prevention and Control, 4770 Buford Highway NE., Mailstop K-63, Atlanta, GA 30341, Telephone—770-488-1279, fax—770-488-1317, e-mail—aig0@cdc.gov.

Dated: September 9, 2005.
William P. Nichols,
Director, Procurement and Grants Office, Centers for Disease Control and Prevention.

[FR Doc. 05-18321 Filed 9-14-05; 8:45 am]

BILLING CODE 4163-18-P